DEPARTMENT OF HEALTH AND HUMAN SERVICES

National Institutes of Health

National Institute of Mental Health; Amended Notice of Meeting

Notice is hereby given of a change in the meeting of the National Institute of Mental Health Special Emphasis Panel, March 17, 2014, 01:00 p.m. to March 17, 2014, 03:00 p.m., National Institutes of Health, Neuroscience Center, 6001 Executive Boulevard, Rockville, MD 20852 which was published in the Federal Register on February 18, 2014, 79 FRN 9245.

The panel name has been changed to “NIMH R25 HIV/AIDS APPLICATIONS.” The previous notice incorrectly listed these as “R34” applications. This meeting will remain at the same time and is closed to the public.

Dated: March 5, 2014.
Carolyn A. Baum,
Program Analyst, Office of Federal Advisory Committee Policy.

[FR Doc. 2014-05166 Filed 3-10-14; 8:45 am]

BILLING CODE 4140-01-P